FEDERAL COMMUNICATIONS COMMISSION

[FR ID: 283816]

Privacy Act of 1974; System of Records

AGENCY: Federal Communications Commission.

ACTION: Notice of a new matching program.

SUMMARY: In accordance with the Privacy Act of 1974, as amended (“Privacy Act”), this document announces the re-establishment of a computer matching program that the Federal Communications Commission (“FCC” or “Commission” or “Agency”) and the Universal Service Administrative Company (USAC) will conduct with the Nevada Department of Health and Human Services, Division of Welfare and Supportive Services (“Nevada”). The purpose of this matching program is to verify the eligibility of applicants to and subscribers of the Universal Service Fund (USF) Lifeline program, which is administered by USAC under the direction of the FCC. More information about this program is provided in the SUPPLEMENTARY INFORMATION section below.

DATES: Written comments are due on or before April 11, 2025. This computer matching program will commence on April 11, 2025, and will conclude 18 months later.

ADDRESSES: Send comments to Elliot Tarloff, FCC, 45 L Street NE, Washington, DC 20554, or Privacy@fcc.gov.

FOR FURTHER INFORMATION CONTACT: Elliot Tarloff at 202-418-0886 or Privacy@fcc.gov.

SUPPLEMENTARY INFORMATION: The Lifeline program provides support for discounted broadband and voice services to low-income consumers. Lifeline is administered by USAC under FCC direction. Consumers qualify for Lifeline through proof of income or participation in a qualifying program, such as Medicaid, the Supplemental Nutritional Assistance Program (SNAP), Federal Public Housing Assistance, Supplemental Security Income (SSI), Veterans and Survivors Pension Benefit, and/or various Tribal-specific federal assistance programs. In a Report and Order adopted on March 31, 2016, the Commission ordered USAC to create a National Lifeline Eligibility Verifier (“National Verifier”), including the National Lifeline Eligibility Database (LED), that would match data about Lifeline applicants and subscribers with other data sources to verify the eligibility of an applicant or subscriber. The Commission found that the National Verifier would reduce compliance costs for Lifeline service providers, improve service for Lifeline subscribers, and reduce waste, fraud, and abuse in the program. The purpose of this particular matching program is to verify Lifeline eligibility by establishing that applicants or subscribers in Nevada are enrolled in the SNAP or Medicaid programs.

PARTICIPATING AGENCIES:

Nevada Department of Health and Human Services, Division of Welfare and Supportive Services (source agency); Federal Communications Commission (recipient agency) and Universal Service Administrative Company.

AUTHORITY FOR CONDUCTING THE MATCHING PROGRAM:

47 U.S.C. 254; 47 CFR 54.400 et seq.; Lifeline and Link Up Reform and Modernization, et al., Third Report and Order, Further Report and Order, and Order on Reconsideration, 31 FCC Rcd 3962, 4006-21, paras. 126-66 (2016) (2016 Lifeline Modernization Order).

PURPOSE(S):

In the 2016 Lifeline Modernization Order, the FCC required USAC to develop and operate the National Verifier to improve efficiency and reduce waste, fraud, and abuse in the Lifeline program. The stated purpose of the National Verifier is “to increase the integrity and improve the performance of the Lifeline program for the benefit of a variety of Lifeline participants, including Lifeline providers, subscribers, states, community-based organizations, USAC, and the Commission.” 31 FCC Rcd 3962, 4006, para. 126. To help determine whether Lifeline applicants and subscribers are eligible for Lifeline benefits, the Order contemplates that the USAC-operated LED will communicate with information systems and databases operated by other Federal and State agencies. Id. at 4011-2, paras. 135-7.

CATEGORIES OF INDIVIDUALS:

The categories of individuals whose information is involved in the matching program include those individuals (residing in a single household) who have applied for Lifeline benefits; are currently receiving Lifeline benefits; are individuals who enable another individual in their household to qualify for Lifeline benefits; are minors whose status qualifies a parent or guardian for Lifeline benefits; are individuals who have received Lifeline benefits; or are individuals acting on behalf of an eligible telecommunications carrier (ETC) who have enrolled individuals in the Lifeline program.

CATEGORIES OF RECORDS:

The categories of records involved in the matching program include the last four digits of the Lifeline applicant's Social Security Number, date of birth, and last name. The National Verifier will transfer these data elements to the Nevada Department of Health and Human Services, Division of Welfare and Supportive Services which will respond either “yes” or “no” that the individual is enrolled in a Lifeline-qualifying assistance program: SNAP or Medicaid.

SYSTEM(S) OF RECORDS:

The USAC records shared as part of this matching program reside in the Lifeline system of records, FCC/WCB-1, Lifeline Program, a notice of which the FCC published at 89 FR 28777 (Apr. 19, 2024).

Federal Communications Commission.
Marlene Dortch,
Secretary.

[FR Doc. 2025-03923 Filed 3-11-25; 8:45 am]

BILLING CODE 6712-01-P